DEPARTMENT OF HEALTH AND HUMAN SERVICES

Advisory Committee on Minority Health; Notice of Meeting Cancellation

The Office of Minority Health (OMH) published a notice in the Federal Register concerning a meeting of the Advisory Committee on Minority Health. The meeting scheduled for Tuesday, January 7, 2025 at 2 p.m. to 3 p.m. (EST) is cancelled. The notice for the January 7 meeting was published in the Federal Register on Monday, December 9, 2024 in FR Doc. 2024-28823, at 89 FR 97629-97630.

For further information contact: Violet Woo, Designated Federal Officer, OMH's Advisory Committee on Minority Health, OMH, HHS, Tower Building, 1101 Wootton Parkway, Suite 100, Rockville, Maryland 20852.

Telephone: (240) 453-6816; Email: OMH-ACMH@hhs.gov.

Violet Woo,
Designated Federal Officer, Advisory Committee on Minority Health.

[FR Doc. 2024-30703 Filed 12-23-24; 8:45 am]

BILLING CODE 4150-29-P